OFFICE OF MANAGEMENT AND BUDGET

Cumulative Report of Rescissions Proposals Pursuant to the Congressional Budget and Impoundment Control Act of 1974

AGENCY: Executive Office of the President, Office of Management and Budget.

ACTION: Notice of monthly cumulative report pursuant to the Congressional Budget and Impoundment Control Act of 1974.

SUMMARY: Pursuant to the Congressional Budget and Impoundment Control Act of 1974, OMB is issuing a monthly cumulative report (for September 2025) from the Director detailing the status of rescission proposals that were previously transmitted to the Congress on June 3, 2025 and August 28, 2025.

DATES: Release Date: September 10, 2025.

ADDRESSES: The September 2025 cumulative report is available on-line on the OMB website at: https://www.whitehouse.gov/omb/information-resources/legislative/supplementals-amendments-and-releases/.

FOR FURTHER INFORMATION CONTACT: Jason Hoffman, 252 Eisenhower Executive Office Building, Washington, DC 20503, Email address: Jason.M.Hoffman@omb.eop.gov, telephone number: (202) 456-1414. Because of delays in the receipt of regular mail related to security screening, respondents are encouraged to use electronic communications.

Russell T. Vought,
Director.

[FR Doc. 2025-17744 Filed 9-12-25; 8:45 am]

BILLING CODE 3110-01-P